JOINT BOARD FOR THE ENROLLMENT OF ACTUARIES

Invitation for Membership on Advisory Committee; Correction

AGENCY: Joint Board for the Enrollment of Actuaries.

ACTION: Request for applications; correction.

SUMMARY: The Joint Board for the Enrollment of Actuaries published a document in the Federal Register of February 19, 2019, 84 FR 4856, inviting applications from those interested in serving on the Advisory Committee on Actuarial Examinations for the term May 1, 2019-February 28, 2021. The document contained two different application due dates. The correct application due date is March 19, 2019.

FOR FURTHER INFORMATION CONTACT: Elizabeth Van Osten, Designated Federal Officer, at 202-317-3648.

SUPPLEMENTARY INFORMATION:

Correction

In the Federal Register notice published on Tuesday, February 19, 2019, page 4856, Application Requirements, the last sentence is corrected to read:

Applications must be received by no later than March 19, 2019.

Dated: February 22, 2019.
Thomas V. Curtin, Jr.,
Executive Director, Joint Board for the Enrollment of Actuaries.

[FR Doc. 2019-03563 Filed 2-27-19; 8:45 am]

BILLING CODE 4830-01-P